LIBRARY OF CONGRESS

Copyright Office

[Docket No. 2024-3]

Notice of Intent To Audit

AGENCY: Copyright Office, Library of Congress.

ACTION: Public notice.

SUMMARY: The U.S. Copyright Office is announcing receipt of notices of intent to conduct audits pursuant to the section 115 blanket license.

FOR FURTHER INFORMATION CONTACT: Rhea Efthimiadis, Assistant to the General Counsel, by email at meft@copyright.gov or telephone at 202-707-8350.

SUPPLEMENTARY INFORMATION:

I. Background

The Orrin G. Hatch-Bob Goodlatte Music Modernization Act (the “MMA”) substantially modified the compulsory “mechanical” license for reproducing and distributing phonorecords of nondramatic musical works under 17 U.S.C. 115.¹ It did so by switching from a song-by-song licensing system to a blanket licensing regime that became available on January 1, 2021 (the “license availability date”), administered by a mechanical licensing collective (the “MLC”) designated by the Copyright Office (the “Office”).² Digital music providers (“DMPs”) are able to obtain this new statutory mechanical blanket license (the “blanket license”) to make digital phonorecord deliveries of nondramatic musical works, including in the form of permanent downloads, limited downloads, or interactive streams (referred to in the statute as “covered activity” where such activity qualifies for a blanket license), subject to various requirements, including reporting and payment obligations.³ The MLC is tasked with collecting royalties from DMPs under the blanket license and distributing them to musical work copyright owners.⁴

¹ Public Law 115-264, 132 Stat. 3676 (2018).

² 17 U.S.C. 115(d).

³ Id.

⁴ Id.

In connection with the new blanket license, the MMA also provides for certain audit rights. Under the MMA, the MLC may periodically audit DMPs operating under the blanket license to verify the accuracy of royalty payments made by DMPs to the MLC.⁵ Likewise, musical work copyright owners may periodically audit the MLC to verify the accuracy of royalty payments made by the MLC to copyright owners.⁶ To commence an audit, a notice of intent to conduct an audit must be filed with the Office and delivered to the party(ies) being audited.⁷ The Office must then cause notice to be published in the Federal Register within 45 days of receipt.⁸

⁵ Id. at 115(d)(4)(D).

⁶ Id. at 115(d)(3)(L).

⁷ Id. at 115(d)(3)(L)(i)(IV), (d)(4)(D)(i)(IV).

⁸ Id. at 115(d)(3)(L)(i)(IV), (d)(4)(D)(i)(IV).

II. Notices

On January 10, 2024, the Office received the below notices of intent to conduct audits of DMPs submitted by the MLC.

1. Notice of intent to audit Amazon Media Venture LLC for the period of January 1, 2021, through December 31, 2023.

2. Notice of intent to audit Amazon.com Services LLC for the period of January 1, 2021, through December 31, 2023.

3. Notice of intent to audit Anghami FZ LLC for the period of January 1, 2021, through December 31, 2023.

4. Notice of intent to audit Appcompanist, LLC for the period of January 1, 2021, through December 31, 2023.

5. Notice of intent to audit Apple Inc. for the period of January 1, 2021, through December 31, 2023.

6. Notice of intent to audit Artist Technology Group DBA PANTHR Music for the period of January 1, 2021, through December 31, 2023.

7. Notice of intent to audit Audiomack Inc for the period of January 1, 2021, through December 31, 2023.

8. Notice of intent to audit Avail LLC for the period of January 1, 2021, through December 31, 2023.

9. Notice of intent to audit Beatport LLC for the period of January 1, 2021, through December 31, 2023.

10. Notice of intent to audit Bill Graham Archives, LLC for the period of January 1, 2021, through December 31, 2023.

11. Notice of intent to audit Boxine GmbH for the period of January 1, 2021, through December 31, 2023.

12. Notice of intent to audit Choral Tracks LLC for the period of January 1, 2021, through December 31, 2023.

13. Notice of intent to audit Classical Archives, LLC for the period of January 1, 2021, through December 31, 2023.

14. Notice of intent to audit Da Capo Music, LLC for the period of January 1, 2021, through December 31, 2023.

15. Notice of intent to audit Deezer S.A. for the period of January 1, 2021, through December 31, 2023.

16. Notice of intent to audit Fan Label, LLC for the period of January 1, 2021, through December 31, 2023.

17. Notice of intent to audit Global Tel*Link Corporation for the period of January 1, 2021, through December 31, 2023.

18. Notice of intent to audit Google, LLC for the period of January 1, 2021, through December 31, 2023.

19. Notice of intent to audit GrooveFox Inc. for the period of January 1, 2021, through December 31, 2023.

20. Notice of intent to audit IDAGIO GmbH for the period of January 1, 2021, through December 31, 2023.

21. Notice of intent to audit iHeartMedia + Entertainment, Inc. for the period of January 1, 2021, through December 31, 2023.

22. Notice of intent to audit M&M Media, Inc. for the period of January 1, 2021, through December 31, 2023.

23. Notice of intent to audit Midwest Tape, LLC for the period of January 1, 2021, through December 31, 2023.

24. Notice of intent to audit Mixcloud Ltd for the period of January 1, 2021, through December 31, 2023.

25. Notice of intent to audit MONKINGME S.L. for the period of January 1, 2021, through December 31, 2023.

26. Notice of intent to audit Music Choice for the period of January 1, 2021, through December 31, 2023.

27. Notice of intent to audit Napster Group PLC for the period of January 1, 2021, through December 31, 2023.

28. Notice of intent to audit Naxos Digital Services US Inc. for the period of January 1, 2021, through December 31, 2023.

29. Notice of intent to audit Nugs.net Enterprises, Inc. for the period of January 1, 2021, through December 31, 2023.

30. Notice of intent to audit Pacemaker Music AB for the period of January 1, 2021, through December 31, 2023.

31. Notice of intent to audit Pandora Media, LLC for the period of January 1, 2021, through December 31, 2023.

32. Notice of intent to audit PianoTrax LLC for the period of January 1, 2021, through December 31, 2023.

33. Notice of intent to audit Power Music, Inc. for the period of January 1, 2021, through December 31, 2023.

34. Notice of intent to audit PRIMEPHONIC B.V. for the period of January 1, 2021, through December 31, 2023.

35. Notice of intent to audit Recisio SAS for the period of January 1, 2021, through December 31, 2023.

36. Notice of intent to audit Saavn Media Limited for the period of January 1, 2021, through December 31, 2023.

37. Notice of intent to audit Securus Technologies, LLC for the period of January 1, 2021, through December 31, 2023.

38. Notice of intent to audit Slacker, Inc. for the period of January 1, 2021, through December 31, 2023.

39. Notice of intent to audit Smithsonian Institution for the period of January 1, 2021, through December 31, 2023.

40. Notice of intent to audit Sonos, Inc. for the period of January 1, 2021, through December 31, 2023.

41. Notice of intent to audit SoundCloud Operations Inc. for the period of January 1, 2021, through December 31, 2023.

42. Notice of intent to audit Spotify USA Inc. for the period of January 1, 2021, through December 31, 2023.

43. Notice of intent to audit TIDAL Music AS for the period of January 1, 2021, through December 31, 2023.

44. Notice of intent to audit Transsnet Music Limited for the period of January 1, 2021, through December 31, 2023.

45. Notice of intent to audit TRIBL, LLC for the period of January 1, 2021, through December 31, 2023.

46. Notice of intent to audit Ultimate Guitar USA LLC for the period of January 1, 2021, through December 31, 2023.

47. Notice of intent to audit Weav Music, Inc. for the period of January 1, 2021, through December 31, 2023.

48. Notice of intent to audit XANDRIE USA for the period of January 1, 2021, through December 31, 2023.

49. Notice of intent to audit Yoto Ltd for the period of January 1, 2021, through December 31, 2023.

On January 25, 2024, the Office received a notice of intent to conduct an audit of the MLC from Caswell Weinbren for the period of January 1, 2021, through December 31, 2023.

A copy of each notice will be made available on the Office's website at https://copyright.gov/music-modernization/audits/.

Dated: January 25, 2024.
Suzanne V. Wilson,
General Counsel and Associate Register of Copyrights.

[FR Doc. 2024-01878 Filed 1-30-24; 8:45 am]

BILLING CODE 1410-30-P